DEPARTMENT OF ENERGY

Federal Energy Regulatory Commission

Combined Notice of Filings #1

Take notice that the Commission received the following electric corporate filings:

Docket Numbers: EC21-21-000.

Applicants: North Fork Ridge Wind, LLC, The Empire District Electric Company.

Description: Application for Authorization Under Section 203 of the Federal Power Act of North Fork Ridge Wind, LLC, et al.

Filed Date: 11/6/20.

Accession Number: 20201106-5317.

Comments Due: 5 p.m. ET 11/27/20.

Take notice that the Commission received the following electric rate filings:

Docket Numbers: ER10-1585-017; ER10-1594-017; ER16-733-008; ER10-1617-017; ER20-2602-001; ER16-1148-008; ER10-1623-006; ER12-60-019; ER10-1632-019; ER10-1628-017.

Applicants: Alabama Electric Marketing, LLC, California Electric Marketing, LLC, LQA, LLC, New Mexico Electric Marketing, LLC, Nobles 2 Power Partners, LLC, Tenaska Energía de Mexico, S. de R.L. de, C.V., Tenaska Frontier Partners, Ltd., Tenaska Power Services Company, Texas Electric Marketing, LLC, Tenaska Power Management, LLC.

Description: Notification of Change in Status of the Tenaska MISO MBR Sellers, et al.

Filed Date: 11/9/20.

Accession Number: 20201109-5195.

Comments Due: 5 p.m. ET 11/30/20.

Docket Numbers: ER10-2645-005.

Applicants: Baconton Power LLC.

Description: Notice of Non-Material Change in Status of Baconton Power LLC.

Filed Date: 11/6/20.

Accession Number: 20201106-5316.

Comments Due: 5 p.m. ET 11/27/20.

Docket Numbers: ER11-4647-001.

Applicants: UP Power Marketing, LLC.

Description: Notice of Non-Material Change in Status of UP Power Marketing LLC.

Filed Date: 11/6/20.

Accession Number: 20201106-5319.

Comments Due: 5 p.m. ET 11/27/20.

Docket Numbers: ER10-1801-005; ER10-2370-004; ER10-1805-006.

Applicants: The Connecticut Light and Power Company, NSTAR Electric Company, Public Service Company of New Hampshire.

Description: Notice of Non-Material Change in Status of the Eversource Companies, et al.

Filed Date: 11/10/20.

Accession Number: 20201110-5138.

Comments Due: 5 p.m. ET 12/1/20.

Docket Numbers: ER12-161-023; ER12-645-024; ER14-25-018.

Applicants: Bishop Hill Energy LLC, California Ridge Wind Energy LLC, Prairie Breeze Wind Energy LLC.

Description: Notice of Non-Material Change in Status of Bishop Hill Energy LLC, et al.

Filed Date: 11/9/20.

Accession Number: 20201109-5182.

Comments Due: 5 p.m. ET 11/30/20.

Docket Numbers: ER18-1906-005; ER16-221-006; ER18-1907-005; ER17-1757-006; ER10-1767-008; ER10-1532-008; ER10-1541-009; ER10-1642-010; ER13-2349-007; ER13-2350-007.

Applicants: Entergy Arkansas, LLC, Entergy Louisiana, LLC, Entergy Mississippi, LLC, Entergy New Orleans, LLC, Entergy Texas, Inc., Entergy Nuclear Palisades, LLC, Entergy Power, LLC, EWO Marketing, LLC, EAM Nelson Holding, LLC, RS Cogen, LLC

Description: Notification of non-material change in status of Entergy Arkansas, LLC, et al.

Filed Date: 11/6/20.

Accession Number: 20201106-5333.

Comments Due: 5 p.m. ET 11/27/20.

Docket Numbers: ER21-110-000.

Applicants: Harts Mill TE Holdings LLC.

Description: Supplement to Harts Mill TE Holdings LLC tariff filing.

Filed Date: 11/6/20.

Accession Number: 20201106-5314.

Comments Due: 5 p.m. ET 11/27/20.

Docket Numbers: ER21-360-000.

Applicants: PJM Interconnection, L.L.C.

Description: § 205(d) Rate Filing: Original ISA, Service Agreement No. 5838; Queue No. AC2-078 to be effective 10/20/2020.

Filed Date: 11/10/20.

Accession Number: 20201110-5003.

Comments Due: 5 p.m. ET 12/1/20.

Docket Numbers: ER21-361-000.

Applicants: New York Independent System Operator, Inc., New York State Electric & Gas Corporation.

Description: § 205(d) Rate Filing: LGIA SA1894 among NYISO, NYSEG, and Stony Creek Energy to be effective 10/28/2020.

Filed Date: 11/10/20.

Accession Number: 20201110-5006.

Comments Due: 5 p.m. ET 12/1/20.

Docket Numbers: ER21-362-000.

Applicants: Central Hudson Gas & Electric Corporation.

Description: § 205(d) Rate Filing: Revision to FERC Rate Schedule 206 to be effective 10/1/2020.

Filed Date: 11/10/20.

Accession Number: 20201110-5014.

Comments Due: 5 p.m. ET 12/1/20.

Docket Numbers: ER21-363-000.

Applicants: AEP Texas Inc..

Description: § 205(d) Rate Filing: AEPTX-Woodward Mountain Wind (2) Interconnection Agreement to be effective 10/26/2020.

Filed Date: 11/10/20.

Accession Number: 20201110-5015.

Comments Due: 5 p.m. ET 12/1/20.

Docket Numbers: ER21-364-000.

Applicants: Midcontinent Independent System Operator, Inc., Ameren Illinois Company.

Description: § 205(d) Rate Filing: 2020-11-10_SA 3299 Att A_Ameren IL-Norris Electric-Effingham Proj. No. 4 to be effective 1/10/2021.

Filed Date: 11/10/20.

Accession Number: 20201110-5018.

Comments Due: 5 p.m. ET 12/1/20.

Docket Numbers: ER21-365-000.

Applicants: Tri-State Generation and Transmission Association, Inc.

Description: § 205(d) Rate Filing: Amendment to Service Agreement No. 871 to be effective 10/29/2020.

Filed Date: 11/10/20.

Accession Number: 20201110-5037.

Comments Due: 5 p.m. ET 12/1/20.

Docket Numbers: ER21-366-000.

Applicants: Tucson Electric Power Company.

Description: § 205(d) Rate Filing: Concurrence to CAISO RS No. 6270 to be effective 11/11/2020.

Filed Date: 11/10/20.

Accession Number: 20201110-5048.

Comments Due: 5 p.m. ET 12/1/20.

Docket Numbers: ER21-367-000.

Applicants: Basin Electric Power Cooperative.

Description: § 205(d) Rate Filing: Basin Electric Amendment to Service Agreement No. 101 to be effective 10/30/2020.

Filed Date: 11/10/20.

Accession Number: 20201110-5049.

Comments Due: 5 p.m. ET 12/1/20.

Docket Numbers: ER21-368-000.

Applicants: Tri-State Generation and Transmission Association, Inc.

Description: § 205(d) Rate Filing: Filing of Rate Schedule FERC No. 318, Board Policy 124 to be effective 11/11/2020.

Filed Date: 11/10/20.

Accession Number: 20201110-5076.

Comments Due: 5 p.m. ET 12/1/20.

Docket Numbers: ER21-369-000.

Applicants: Wapello Solar LLC.

Description: Baseline eTariff Filing: Application For Market Based Rate Authority to be effective 12/18/2020.

Filed Date: 11/10/20.

Accession Number: 20201110-5091.

Comments Due: 5 p.m. ET 12/1/20.

Docket Numbers: ER21-370-000.

Applicants: Cleco Power LLC.

Description: § 205(d) Rate Filing: Rate Schedule for Blackstart Service to be effective 1/9/2021.

Filed Date: 11/10/20.

Accession Number: 20201110-5104.

Comments Due: 5 p.m. ET 12/1/20.

Docket Numbers: ER21-371-000.

Applicants: ISO New England Inc., New England Power Pool.

Description: ISO New England Inc. submits Installed Capacity Requirement, Hydro Quebec Interconnection Capability Credits and Related Values for the 2024/2025 Capacity Commitment Period.

Filed Date: 11/10/20.

Accession Number: 20201110-5133.

Comments Due: 5 p.m. ET 12/1/20.

Docket Numbers: ER21-372-000.

Applicants: ISO New England Inc.

Description: ISO New England Inc. submits Informational filing for Qualification in the Forward Capacity Market.

Filed Date: 11/10/20.

Accession Number: 20201110-5136.

Comments Due: 5 p.m. ET 11/25/20.

Take notice that the Commission received the following electric securities filings:

Docket Numbers: ES21-10-000.

Applicants: California Independent System Operator Corporation.

Description: Application Under Section 204 of the Federal Power Act for Authorization to Issue Securities for California Independent System Operator Corporation.

Filed Date: 11/5/20.

Accession Number: 20201105-5205.

Comments Due: 5 p.m. ET 11/27/20.

Take notice that the Commission received the following public utility holding company filings:

Docket Numbers: PH21-2-000.

Applicants: Énergir Inc.

Description: Energir Inc. submits FERC 65-B Waiver Notification.

Filed Date: 11/6/20.

Accession Number: 20201106-5332.

Comments Due: 5 p.m. ET 11/27/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 10, 2020.
Nathaniel J. Davis, Sr.,
Deputy Secretary.

[FR Doc. 2020-25303 Filed 11-16-20; 8:45 am]

BILLING CODE 6717-01-P